DEPARTMENT OF ENERGY

Federal Energy Regulatory Commission

[Docket No. EG05-4-000, et al.]

Dominion Energy Brayton Point, LLC, et al.; Electric Rate and Corporate Filings

October 14, 2004.

The following filings have been made with the Commission. The filings are listed in ascending order within each docket classification.

1. Dominion Energy Brayton Point, LLC

[Docket No. EG05-4-000]

On October 8, 2004, Dominion Energy Brayton Point, LLC, (Dominion Energy), 120 Tredegar Street, Richmond, Virginia 23219, filed with the Federal Energy Regulatory Commission an application for determination of exempt wholesale generator status pursuant to part 365 of the Commission's Regulations.

Dominion Energy states that it is a Virginia company and, upon closing of a purchase and sale transaction with USGen New England, Inc., will own the Brayton Point Station in Somerset, Massachusetts. Dominion Energy states that the Brayton Point Station consists of three coal-fired units, one oil/gas-fired unit, and a 10-MW diesel/oil unit with a total net capacity of 1594 MW. Dominion Energy further states that in connection with a prior sale of these facilities to USGenNE in 1998, in accordance with section 32(c) of PUHCA and section 365.3 of the Commission's Regulations, Massachusetts, New Hampshire, Rhode Island, and Vermont made specific determinations that allowing the facilities to be eligible facilities: (1) Will benefit customers, (2) is in the public interest; and (3) does not violate state laws.

Comment Date: 5 p.m. eastern time on October 29, 2004.

2. Dominion Energy Manchester Street, Inc.

[Docket No. EG05-5-000]

On October 8, 2004, Dominion Energy Manchester States, Inc., (Dominion Energy Manchester), 120 Tredegar Street, Richmond, Virginia 23219, filed with the Federal Energy Regulatory Commission an application for determination of exempt wholesale generator status pursuant to part 365 of the Commission's Regulations.

Dominion Energy Manchester states that it is a Virginia company and, upon closing of a purchase and sale transaction with USGen New England, Inc., will own the Manchester Street Station in Providence, Rhode Island. Dominion Energy Manchester states that Manchester Street Station is a combined cycle natural-gas fired generating facility consisting of three combustion turbines and three heat recovery steam generators with a net capacity of 495 MW. Dominion Energy Manchester further states that in connection with a prior sale of these facilities to USGenNE in 1998, in accordance with section 32(c) of PUHCA and section 365.3 of the Commission's Regulations, Massachusetts, New Hampshire, Rhode Island, and Vermont made specific determinations that allowing the facilities to be eligible facilities: (1) Will benefit customers, (2) is in the public interest; and (3) does not violate state laws.

Comment Date: 5 p.m. eastern time on October 29, 2004.

3. Dominion Energy New England, Inc.

[Docket No. EG05-6-000]

On October 8, 2004, Dominion Energy New England, Inc., (Dominion Energy New England), 120 Tredegar Street, Richmond, Virginia 23219, filed with the Federal Energy Regulatory Commission an application for determination of exempt wholesale generator status pursuant to part 365 of the Commission's Regulations.

Dominion Energy New England states that it is a Massachusetts corporation formed to acquire the Brayton Point Station in Somerset, Massachusetts, the Manchester Street Station in Providence, Rhode Island, and the Salem Harbor Station in Salem, Massachusetts (collectively, the Facilities) from USGen New England, Inc. Dominion Energy New England states that upon closing of this purchase and sale transaction, the Applicant will operate the Facilities. Dominion Energy New England further states that the Brayton Point Station consists of three coal-fired units, one oil/gas-fired unit, and a 10-MW diesel/oil unit with a total net capacity of 1594 MW. The Manchester Street Station is a combined cycle natural-gas fired generating facility consisting of three combustion turbines and three heat recovery steam generators with a net capacity of 495 MW.

The Salem Harbor Station consists of three coal-fired units and one oil-fired unit with a total net capacity of 745 MW. In connection with a prior sale of these Facilities to USGenNE in 1998, in accordance with section 32(c) of PUHCA and section 365.3 of the Commission's Regulations, Massachusetts, New Hampshire, Rhode Island, and Vermont made specific determinations that allowing the facilities to be eligible facilities: (1) Will benefit customers, (2) is in the public interest; and (3) does not violate state laws.

Comment Date: 5 p.m. eastern time on October 29, 2004.

4. Dominion Energy Salem Harbor, LLC

[Docket No. EG05-7-000]

On October 8, 2004, Dominion Energy Salem Harbor, LLC, (Dominion Energy Salem), 120 Tredegar Street, Richmond, Virginia 23219, filed with the Federal Energy Regulatory Commission an application for determination of exempt wholesale generator status pursuant to part 365 of the Commission's Regulations.

Dominion Energy Salem states that it is a Virginia company and, upon closing of a purchase and sale transaction with USGen New England, Inc., will own the Salem Harbor Station in Salem, Massachusetts (the Facilities). Dominion Energy Salem states that the Salem Harbor Station consists of three coal-fired units and one oil-fired unit with a total net capacity of 745 MW. Dominion Energy Salem further states that in connection with a prior sale of these facilities to USGenNE in 1998, in accordance with section 32(c) of PUHCA and section 365.3 of the Commission's Regulations, Massachusetts, New Hampshire, Rhode Island, and Vermont made specific determinations that allowing the facilities to be eligible facilities: (1) Will benefit customers, (2) is in the public interest; and (3) does not violate state laws.

Comment Date: 5 p.m. eastern time on October 29, 2004.

5. Idaho Power Company

[Docket No. ER97-1481-004]

Take notice that on October 8, 2004, Idaho Power Company (Idaho Power) submitted an amendment to its September 27, 2004 filing in Docket No. ER97-1481-004 of a revised market-based rate tariff three-year update filing.

Comment Date: 5 p.m. eastern time on October 29, 2004.

6. Dynegy Power Marketing, Inc.

[Docket No. ER99-4160-006]

Take notice that on September 22, 2004, Dynegy Power Marketing, Inc. (Dynegy) pursuant to section 205 of the Federal Power Act (FPA), 16 U.S.C. 824d, and part 35 of the Commission's regulations, 18 CFR part 35, submitted for filing amended rate schedules implementing provisions for sales of market-based ancillary services (Market-Based Ancillary Services Tariff). Dynegy states that this amended Rate Schedule was originally submitted September 10, 2004, in compliance with the Commission's order issued July 29, 2004, in Ameren Corporation, 108 FERC ¶ 61,094. Dynegy submitted for filing revisions to its tariff implementing the Market Behavior Rules, Investigation of Terms and Conditions of Public Utility Market-Based Rate Authorizations, 105 FERC ¶ 61,218 (2003) (Market Behavior Rules Tariff). Dynegy's also states that this filing does not reflect further substantive changes, but is ministerial in nature, reflecting both the requested tariff change and a subsequently filed tariff change. Dynegy requests an effective date of January 1, 2005, for the Market-Based Ancillary Services Tariffs and December 17, 2003, for the Market Behavior Rules Tariffs.

Comment Date: 5 p.m. eastern time on October 25, 2004.

7. PPL Wallingford Energy LLC

[Docket No. ER01-1559-003]

Take notice that on October 8, 2004, PPL Wallingford Energy LLC (PPL Wallingford) submitted a supplement to the updated market power analysis that was filed with the Commission on July 12, 2004 in Docket No. ER01-1559-002.

PPL Wallingford states that copies of the filing were served on parties on the official service list in the above-captioned proceeding.

Comment Date: 5 p.m. eastern time on October 29, 2004.

8. New England Power Pool, ISO New England Inc.

[Docket Nos. ER04-1005-001 and ER04-798-003 (not consolidated)]

Take notice that on October 8, 2004, the New England Power Pool (NEPOOL) Participants Committee submitted changes to section 2.9 of Market Rule 1 in response to the requirements of the Commission's orders issued September 10, 2004, in Docket No. ER04-1005-000 and July 15, 2004, in Docket No. ER04-798-000.

NEPOOL Participants Committee and ISO-NE state that copies of these materials were sent to all persons identified on the service lists in the captioned proceedings, the NEPOOL Participants and the New England state governors and regulatory commissions.

Comment Date: 5 p.m. eastern time on October 29, 2004.

9. MeadWestvaco Energy Services, LLC

[Docket No. ER04-1137-001]

Take notice that on October 6, 2004, MeadWestvaco Energy Services, LLC, (MWES) filed a supplement to its petition for market-based rates as power marketer filed August 18, 2004, in Docket No. Er04-1137-000. MWES states that the supplemental information pertains to additional analysis of generation market power and supplemental information regarding generation owned or controlled by MWES affiliates.

Comment Date: 5 p.m. eastern time on October 29, 2004.

10. California Independent System Operator Corporation

[Docket No. ER04-1228-001]

Take notice that, on October 8, 2004, the California Independent System Operator Corporation (ISO) submitted an errata to its informational filing of September 15, 2004, regarding the ISO's revised transmission Access Charge rates for the period of August 13, 2003, through December 31, 2003, to implement the settled rate for Pacific Gas and Electric Company TO6. ISO states that the purpose of the errata filing is to correct the information provided in the September 15 Filing regarding the Access Charge rate for the period from October 1, 2003, through December 31, 2003.

The ISO states that this filing has been served upon the Public Utilities Commission of the State of California, the California Energy Commission, the California Electricity Oversight Board, the Participating Transmission Owners, and upon all parties with effective Scheduling Coordinator Service Agreements under the ISO Tariff. In addition, the ISO is posting the filing on the ISO Home Page.

Comment Date: 5 p.m. eastern time on October 29, 2004.

11. Sierra Pacific Power Company.

[Docket No. ER05-27-000]

Take notice that on October 8, 2004, Sierra Pacific Power Company (Sierra) filed a Notification of Rate Decease under Bonneville Power Administration General Transfer Agreement, designated Rate Schedule FERC No. 27.

Sierra states that copies of the filing were served upon the Bonneville Power Administration, Public Utilities Commission of Nevada, California Public Utilities Commission and Nevada Bureau of Consumer Protection.

Comment Date: 5 p.m. eastern time on October 29, 2004.

12. Pacific Gas and Electric Company

[Docket No. ER05-28-000]

Take notice that on October 8, 2004, Pacific Gas and Electric Company (PG&E) tendered for filing the 2002 true-up of rates pursuant to Contract No. 14-06-200-2948A (Contract 2948A), PG&E First Revised Rate Schedule FERC No. 79, between PG&E and the Western Area Power Administration (Western).

PG&E states that copies of this filing have been served upon Western and the California Public Utilities Commission.

Comment Date: 5 p.m. eastern time on October 29, 2004.

13. New England Power Company

[Docket No. ER05-29-000]

Take notice that on October 8, 2004, New England Power Company (NEP) submitted for filing an Original Service Agreement No. 216 between the Water and Light Department of the Town of Littleton, New Hampshire for Network Integration Transmission Service under NEP's FERC Electric Tariff, Second Revised Volume No. 9 and a Notice of Cancellation of Service Agreement No. 13. NEP requests an effective date of November 1, 2004.

Comment Date: 5 p.m. eastern time on October 29, 2004.

14. Central Hudson Gas & Electric Corporation.

[Docket No. ER05-30-000]

Take notice that on October 8, 2004, Central Hudson Gas & Electric Corporation (Central Hudson) submitted a Notice of Cancellation of Service Agreement No. 8 approved by the Commission in Docket No. ER97-1879, under Central Hudson's FERC Electric Tariff, Original Volume 2. Central Hudson requests an effective date of October 1, 2004.

Central Hudson states that copies of the filing were served upon Mirant and the State of New York Public Service Commission.

Comment Date: 5 p.m. eastern time on October 29, 2004.

15. Dominion Energy New England, Inc., Dominion Energy Salem Harbor, LLC, Dominion Energy Brayton Point, LLC, Dominion Energy Manchester Street, Inc.

[Docket Nos . ER05-34-000, ER05-35-000, ER05-36-000, ER05-37-000]

Take notice that on October 8, 2004, Dominion Energy New England, Inc., Dominion Energy Salem Harbor, LLC, Dominion Energy Brayton Point, LLC, and Dominion Energy Manchester Street, Inc. submitted for filing Market-Based Rate Tariffs (FERC Electric Tariff, Original Volume No. 1) providing for sales of capacity, energy and/or ancillary services at negotiated rates and terms and for the resale of transmission rights.

Comment Date: 5 p.m. eastern time on October 29, 2004.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please e-mail FERCOnlineSupport@ferc.gov, or call (866) 208-3676 (toll free). For TTY, call (202) 502-8659.

Magalie R. Salas,
Secretary.

[FR Doc. E4-2742 Filed 10-20-04; 8:45 am]

BILLING CODE 6717-01-P